DEPARTMENT OF THE INTERIOR

National Park Service

[2031-A047-409]

DRAFT General Management Plan and Draft Environmental Impact Statement, Biscayne National Park, FL

AGENCY: National Park Service, Interior.

ACTION: Notice of Availability of the Draft General Management Plan and Environmental Impact Statement.

SUMMARY: Pursuant to the National Environmental Policy Act of 1969, 42 U.S.C. 4332(2)(C), the National Park Service (NPS) announces the availability of a Draft Environmental Impact Statement (EIS) for the General Management Plan (GMP) for Biscayne National Park (Park), Florida.

Consistent with NPS laws, regulations, and policies and the purpose of the Park, the Draft EIS/GMP describes the NPS preferred alternative—Alternative 4—to guide the management of the Park over the next 20 to 30 years. The preferred alternative incorporates various management prescriptions to ensure protection, access and enjoyment of the park's resources.

An up-to-date GMP is needed to address how visitors access and use the park and the facilities needed to support those uses, how resources are managed, and how the NPS manages its operations. Recent studies have enhanced the NPS's understanding of resources, resource threats, and visitor use in the park.

DATES: The NPS will accept comments from the public on the Draft EIS/GMP for at least 60 days, starting from the date the Environmental Protection Agency publishes this Notice of Availability. The date, time, and location of the public meetings on the Draft EIS/GMP will be announced through the NPS Planning, Environment, and Public Comment (PEPC) Web site: http://parkplanning.nps.gov/BISC and media outlets.

ADDRESSES: Electronic copies of the Draft EIS/GMP will be available online at http://parkplanning.nps.gov/BISC. To request a copy, contact Biscayne National Park Superintendent Mark Lewis, 9700 SW 328 Street, Homestead, FL 33033-5634.

Comments may be submitted by several methods. The preferred method is commenting via the internet on the PEPC Web site above. An electronic public comment form is provided on this Web site. You may also mail comments to Superintendent, Biscayne National Park, 9700 SW 328 Street, Homestead, FL 33033-5634. Finally, you may hand-deliver comments to the park. Before including your address, phone number, e-mail address, or other personal identifying information in your comment, please be aware that your entire comment—including your personal identifying information—may be made publicly available at any time. While you can ask us in your comment to withhold your personal identifying information from public review, we cannot guarantee that we will be able to do so. We will always make submissions from organizations or businesses, and from individuals identifying themselves as representatives of or officials of organizations or businesses, available for public inspection in their entirety. A limited number of compact disks and printed copies of the Draft GMP/EIS will be made available at Biscayne National Park headquarters, 9700 SW 328 Street, Homestead, FL.

SUPPLEMENTARY INFORMATION: Public meetings, newsletters, and internet updates have kept the public informed and involved throughout the planning process. The draft GMP provides a framework for management, use, and development of the national park for the next 20 or more years. It presents and analyzes five alternatives: Alternative 1 (no action) provides a baseline for evaluating changes and impacts of the four action alternatives. Alternative 2 provides the highest level of visitor services in the form of increased facilities and access to areas of the park. Alternative 3 adds a visitor permit system and marine reserve zone. Alternative 4 is the NPS Preferred Alternative. It was crafted to emphasize strong natural and cultural resource protection while providing a diversity of visitor experiences. Visitor opportunities in this alternative would range from the challenges of exploring the natural environment alone to the conveniences of built surroundings. A limited amount of moderate resource impacts would be tolerated in high-use areas of the park. While the majority of the park would be open for public enjoyment and appreciation, some areas would be closed to visitors to protect sensitive resources and allow wildlife a respite from people. Alternative 5 provides the highest protection of natural and cultural resources on the park, including a larger marine reserve zone.

The five alternatives are described in detail in chapter 2 of the draft plan. The key impacts of implementing the five alternatives are detailed in chapter 4 and summarized in chapter 2.

FOR FURTHER INFORMATION CONTACT: Biscayne National Park Superintendent Mark Lewis, 9700 SW 328 Street, Homestead, FL 33033-5634 or telephone at (305) 230-1144. The authority for publishing this notice is contained in 40 CFR 1506.6

The responsible official for this Draft EIS is the Regional Director, NPS Southeast Region, 100 Alabama Street SW., 1924 Building, Atlanta, Georgia 30303.

Dated: August 8, 2011.
Gordon Wissinger,
Acting Regional Director, Southeast Region.

[FR Doc. 2011-21084 Filed 8-17-11; 8:45 am]

BILLING CODE 4310-ML-P